COMMISSION ON CIVIL RIGHTS

Notice of Public Meetings of the Virginia Advisory Committee to the U.S. Commission on Civil Rights

AGENCY: U.S. Commission on Civil Rights.

ACTION: Announcement of web briefing.

SUMMARY: Notice is hereby given, pursuant to the provisions of the rules and regulations of the U.S. Commission on Civil Rights (Commission) and the Federal Advisory Committee Act, that the Virginia Advisory Committee (Committee) will hold a web briefing to hear testimony on police accountability in Virginia via WebEx on Wednesday, April 27, 2022, at 12:00 p.m. Eastern Time.

DATES: The meeting will be held on Wednesday, April 27, 2022, at 12:00 p.m. Eastern Time.

ADDRESSES:

Online Registration: https://bit.ly/3Iz0Myd.

Join by Phone: 800-360-9505 USA Toll Free; Access code: 2763 362 5630.

FOR FURTHER INFORMATION CONTACT: Melissa Wojnaroski, DFO, at mwojnaroski@usccr.gov or (202) 618-4158.

SUPPLEMENTARY INFORMATION: Members of the public may listen to this discussion through the above call-in number. An open comment period will be provided to allow members of the public to make a statement as time allows. Callers can expect to incur regular charges for calls they initiate over wireless lines, according to their wireless plan. The Commission will not refund any incurred charges. Callers will incur no charge for calls they initiate over land-line connections to the toll-free telephone number. Closed captions will be provided. Individuals requiring reasonable accommodations should contact Sarah Villanueva at svillanueva@usccr.gov 10 days prior to the meeting to make their request.

Members of the public are entitled to submit written comments; the comments must be received in the regional office within 30 days following the meeting. Written comments may be emailed to Melissa Wojnaroski at mwojnaroski@usccr.gov.

Records generated from this meeting may be inspected and reproduced at the Regional Programs Unit Office, as they become available, both before and after the meeting. Records of the meeting will be available via www.facadatabase.gov under the Commission on Civil Rights, Virginia Advisory Committee link. Persons interested in the work of this Committee are directed to the Commission's website, http://www.usccr.gov, or may contact the Regional Programs Unit at the above email or street address.

Agenda

I. Welcome & Roll Call

II. Opening Statement

III. Panel Discussion: Police Oversight and Accountability in Virginia

IV. Q&A

V. Public Comment

VI. Next Steps

VII. Adjournment

Dated: March 1, 2022.
David Mussatt,
Supervisory Chief, Regional Programs Unit.

[FR Doc. 2022-04655 Filed 3-3-22; 8:45 am]

BILLING CODE P